ENVIRONMENTAL PROTECTION AGENCY

[ER-FRL-6251-3]

Environmental Impact Statements and Regulations; Availability of EPA Comments

Availability of EPA comments prepared January 31, 2000 through February 4, 2000 pursuant to the Environmental Review Process (ERP), under Section 309 of the Clean Air Act and Section 102(2)(c) of the National Environmental Policy Act as amended. Requests for copies of EPA comments can be directed to the Office of Federal Activities at (202) 564-7176.

An explanation of the ratings assigned to draft environmental impact statements (EISs) was published in the Federal Register dated April 9, 1999 (63 FR 17856).

Draft EISs

ERP No. D-BLM-J01010-WY Rating EC2, Horse Creek Coal Lease Application (Federal Coal Lease Application WYW-141435), Implementation, Campbell and Converse Counties, WY.

Summary: EPA expressed environmental concerns regarding the lack of mitigation to reduce harmful levels of nitrogen oxides that could result from blasting coal and overburden, a concern for potential visibility impairment in Class I areas from increased air emissions from coal-bed methane production, coal mining, and coal trains. EPA requested a comprehensive impact assessment/planning document be developed to disclose incremental developments and their potential impacts to the Powder River Basin based on 10% coal production annual growth use.

ERP No. D-COE-C39013-NY Rating LO, Fire Island Inlet to Montauk Point, Implementation, Reach 1—Fire Island Inlet to Moriches Inlet Interim Storm Damage Protection Project, Long Island, NY.

Summary: EPA concluded that this project will not result in significant adverse environmental impacts and does not object to its implementation.

ERP No. D-COE-K36130-AZ Rating EC2, Tres Rios Feasibility Study Project, Ecosystem Restoration, Located at the Salt, Gila and Agua Fria Rivers, City of Phoenix, Maricopa County, AZ.

Summary: EPA expressed concern regarding potential water quality impacts. EPA requested that additional information be included on this issue in the final document.

ERP No. D-DOE-A06181-00 Rating EC2, Geologic Repository for the Disposal of Spent Nuclear Fuel and High-Level Radioactive Waste, Construction, Operation, Monitoring and Eventually Closing a geologic repository at Yucca Mountain, Nye County, NV.

Summary: EPA expressed environmental concerns with this project and requested clarifications about and additional data on: the movement of radionuclides in the saturated zone beneath the repository; changes in project design resulting from on-going studies at the repository site; and, the national transportation of spent fuel and high level radioactive waste.

ERP No. D-FAA-F51045-OH Rating EC2, Cleveland Hopkins International Airport, To Provide Capacity, Facilities, Highway Improvements and Enhancement to Safety, Funding, Cugahoga County, OH.

Summary: EPA expressed concerns regarding potential noise impacts, water quality impacts, purpose/need documentation, alternatives, and Section 401 Water Quality Certification status. EPA requested that additional information/mitigation be provided on these issues.

ERP No. D-NPS-K65221-AZ Rating LO, Chiricahua National Monument, General Management Plan, To Protect Certain National Formations, Known as “the Pinnacles,” AZ.

Summary: EPA expressed a lack of objections to the proposed management plan.

ERP No. D-NPS-K65222-AZ Rating LO, Fort Bowie National Historic Site General Management Plan, Implementation, Cochise County, AZ.

Summary: EPA expressed a lack of objections to the proposal. However, EPA requested that the NPS disclose details on the proposal's potential impacts to groundwater resources, at Apache Spring, expand the cumulative impacts section in the final EIS and continue consultation with affected tribes on a government to government basis.

ERP No. D-SFW-L03009-AK Rating EC2, Wolf Lake Area Natural Gas Pipeline Project, Construction, Approval Right-of-Way Grant and COE Section 404 Permit, Kenai National Wildlife Refuge, AK.

Summary: EPA identified concerns with the level of analysis presented in the EIS, the lack of analysis of the no action alternative, and the lack of clearly defined mitigation measures that would be implemented. EPA recommended that these issues be addressed in the final EIS.

ERP No. D-TVA-E09805-TN Rating EC2, Addition of Electric Generation Peaking and Baseload Capacity at Greenfield Sites, Construction and Operation of Combustion Turbines (CTs), Haywood County, TN.

Summary: EPA expressed concerns regarding potential air quality, environmental justice and global warming issues. EPA requested that additional information on these issues be included in the final EIS.

ERP No. D-USA-A10073-00 Rating EC2, Programmatic EIS—Transportable Treatment Systems for Non-Stockpile Chemical Warfare Material (CWM), To Destroy Non-Stockpile (CWM) in order to Protect Human, Health, Safety and the Environment, To Comply with the International Treaty, Nationwide.

Summary: EPA recommended that the EIS be changed from a programmatic documents to a non-programmatic EIS to reflect the limited scope of the EIS in relation to the whole non-stockpile CWM destruction program. EPA requested additional information be provided in the final EIS concerning treatment effectiveness, hazardous waste determination, waste control limits, monitoring, and risk assessments.

ERP No. DB-NOA-E86002-00 Rating LO, Snapper Grouper Fishery, Amendment 12 to the Fishery Management Plan, Regulatory Impact Review, South Atlantic Region.

Summary: While EPA has no objection to the proposed action, it recommended that an adaptive management approach be instituted to measure the success of the Fishery Management Plan and stock recovery and to implement adopted adjustments as needed.

ERP No. DS-AFS-L61218-ID Rating EC2, Frank Church-River of No Return Wilderness (FC-RONRW), Implementation for the Future Management of Land and Water Resources, Updated and Additional Information, Bitterroot, Boise, Nez Perce, Payette and Salmon-Challis National Forests, ID.

Summary: EPA expressed concerns regarding water quality. EPA recommended that the EIS include information on degraded streams, their polluting parameters, potential impacts from project implementation, and strategies for addressing degraded streams as required by the Forest Service Protocol for Addressing CWA 303(d) Listed Waters.

ERP No. DS-NOA-A91065-00 Rating EC2, Atlantic Tunas, Swordfish and Sharks, Highly Migratory Species Fishery Management Plan, Updated Information, Reduction of Bycatch and Incidental Catch in the Atlantic Pelagic Longline Fishery.

Summary: EPA expressed concern that the preferred alternative is counterproductive for some species, particularly protected sea turtles, and requested that another alternative that might reduce turtle interaction with Longline sets be selected.

Final EISs

ERP No. F-AFS-J61100-CO, Arapahoe Basin Ski Area Master Development Plan, Construction and Operation, COE Section 404 Permit, White River National Forest, Dillon Ranger District, Summit County, CO.

Summary: EPA expressed environmental objections due to potential impacts to water quality, and inadequate mitigation for potential impacts in Phase I of the project. EPA recommended that a mitigation plan be developed to accompany the stipulations attached to Phase II of the project.

ERP No. F-AFS-J65308-UT, Wasatch Powderbird Guides Permit Renewal, Proposal to Conduct Guided Helicopter Skiing Activities on National Forest System Land, Issuance of a Special-Use-Permit, Wasatch-Cache National Forest, Uinta National Forest, Salt Lake County, UT.

Summary: No formal comment letter was sent to the preparing agency.

ERP No. F-AFS-L65297-AK, Indian River Timber Sales(s) Project, Implementation, Tongass National Forest, Chatham Area, Sitka and Hoonah Ranger Districts, COE Section 10 and 404 Permit, NPDES and Coast Guard Bridge Permit, Chichagof Island, AK.

Summary: No formal comment letter was sent to the preparing agency.

ERP No. F-COE-C30010-NJ, Barnegat Inlet to Little Egg Inlet Hurricane and Storm Damage Protection, Implementation, Long Beach Island, Ocean County, NJ.

Summary: EPA has no objection to the proposed project because it does not appear that it would result in significant adverse impacts to environmental resources of concern.

ERP No. F-FHW-L40209-WA, WA-16/Union Avenue Vicinity to WA-302 Vicinity of Tacoma Improvements, Construction, Funding, Coast Guard Permit, COE Section 10 and 404 Permits, Pierce County, WA.

Summary: No formal comment letter was sent to the preparing agency.

ERP No. F-USA-C11015-NJ, Military Ocean Terminal (MOTBY), Disposal and Reuse, Implementation, in the City of Bayonne, Bergen, Essex and Hudson Counties, NJ.

Summary: EPA has no objection to the project as proposed, provided that all mitigation is implemented.

ERP No. F-USA-K11090-AZ, Fort Huachuca Real Property Master Planning, Approval of Land Use and Real Estate Investment Strategies, Cochise County, AZ.

Summary: No formal comment letter was sent to the preparing agency.

ERP No. F-USN-K11097-GU, Agana Naval Air Station Disposal and Reuse, Implementation, Guam.

Summary: No formal comment letter was sent to the preparing agency.

Dated: February 15, 2000.
B. Katherine Biggs,
Associate Director, Office of Federal Activities.

[FR Doc. 00-3936 Filed 2-17-00; 8:45 am]

BILLING CODE 6560-50-U